DEPARTMENT OF THE INTERIOR

Bureau of Safety and Environmental Enforcement

[Docket ID BSEE-2015-0009; OMB Control Number 1014-0007; 15XE1700DX EEEE500000 EX1SF0000.DAQ000]

Information Collection Activities: Oil-Spill Response Requirements for Facilities Located Seaward of the Coast Line; Submitted for Office of Management and Budget (OMB) Review; Comment Request

ACTION: 30-day notice.

SUMMARY: To comply with the Paperwork Reduction Act of 1995 (PRA), the Bureau of Safety and Environmental Enforcement (BSEE) is notifying the public that we have submitted to OMB an information collection request (ICR) to renew approval of the paperwork requirements in the regulations under Oil-Spill Response Requirements for Facilities Located Seaward of the Coast Line. This notice also provides the public a second opportunity to comment on the revised paperwork burden of these regulatory requirements.

DATES: You must submit comments by September 25, 2015.

ADDRESSES: Submit comments by either fax (202) 395-5806 or email (OIRA_Submission@omb.eop.gov) directly to the Office of Information and Regulatory Affairs, OMB, Attention: Desk Officer for the Department of the Interior (1014-0007). Please provide a copy of your comments to BSEE by any of the means below.

• Electronically go to http://www.regulations.gov. In the Search box, enter BSEE-2015-0009 then click search. Follow the instructions to submit public comments and view all related materials. We will post all comments.

• Email cheryl.blundon@bsee.gov, fax (703) 787-1546, or mail or hand-carry comments to the Department of the Interior; Bureau of Safety and Environmental Enforcement; Regulations and Standards Branch; ATTN: Cheryl Blundon; 45600 Woodland Road, Sterling, VA 20166. Please reference ICR 1014-0007 in your comment and include your name and return address.

FOR FURTHER INFORMATION CONTACT: Cheryl Blundon, Regulations and Standards Branch, (703) 787-1607, to request additional information about this ICR. To see a copy of the entire ICR submitted to OMB, go to http://www.reginfo.gov (select Information Collection Review, Currently Under Review).

SUPPLEMENTARY INFORMATION:

Title: 30 CFR 254, Oil-Spill Response Requirements for Facilities Located Seaward of the Coast Line.

OMB Control Number: 1014-0007.

Abstract: Section 2(b)(3) of E.O. 12777 delegated to the Secretary of the Interior (Secretary) those responsibilities under section 311(j)(1)(C) of the Federal Water Pollution Control Act (FWPCA) (October 18, 1991; 56 FR 54757), requiring the Secretary to establish procedures, methods, and requirements for equipment to prevent and contain discharges of oil and hazardous substances from offshore facilities, including associated pipelines. Under section 2(d)(3) of E.O. 12777, section 311(j)(5) of FWPCA, and section 4202(b)(4) of OPA, the Secretary is required to issue regulations requiring the owners or operators of offshore facilities, including associated pipelines, to prepare and submit response plans that ensure the availability of private spill-response personnel and equipment and to permit the operation of offshore facilities, including associated pipelines, without approved response plans if certain conditions are met. Under section 2(e)(3) of E.O. 12777 and section 311(j)(6)(A) of FWPCA, the Secretary must require periodic inspections of containment booms and equipment used to remove discharges at offshore facilities, including associated pipelines. The Secretary has redelegated these responsibilities to the Director, BSEE.

The FWPCA, as amended by the Oil Pollution Act of 1990 (OPA), requires that a spill-response plan be submitted for offshore facilities prior to February 18, 1993. The OPA specifies that after that date, an offshore facility may not handle, store, or transport oil unless a plan has been submitted. Regulations at 30 CFR 254 establish requirements for spill-response plans for oil-handling facilities seaward of the coast line, including associated pipelines.

In addition, BSEE also issues various Notices to Lessees (NTLs) and Operators to clarify and provide additional guidance on some aspects of the regulations, as well as forms to capture the data and information.

Regulations implementing these responsibilities are among those delegated to BSEE. Responses are mandatory or are required to obtain or retain a benefit. No questions of a sensitive nature are asked. BSEE protects information considered proprietary under the Freedom of Information Act (5 U.S.C. 552) and DOI's implementing regulations (43 CFR 2), and under regulations at 30 CFR part 250.197, Data and information to be made available to the public or for limited inspection, 30 CFR part 252, OCS Oil and Gas Information Program.

BSEE uses the information collected under 30 CFR 254 to determine compliance with OPA by lessees/operators. Specifically, BSEE needs the information to:

• Determine that lessees/operators have an adequate plan and are sufficiently prepared to implement a quick and effective response to a discharge of oil from their facilities or operations.

• Review plans prepared under the regulations of a State and submitted to BSEE to satisfy the requirements in 30 CFR 254 to ensure that they meet minimum requirements of OPA.

• Verify that personnel involved in oil-spill response are properly trained and familiar with the requirements of the spill-response plans and to lead and witness spill-response exercises.

• Assess the sufficiency and availability of contractor equipment and materials.

• Verify that sufficient quantities of equipment are available and in working order.

• Oversee spill-response efforts and maintain official records of pollution events.

• Assess the efforts of lessees/operators to prevent oil spills or prevent substantial threats of such discharges.

Frequency: On occasion, monthly, annually, biennially and as required by regulations.

Description of Respondents: Potential respondents comprise OCS Federal oil, gas, or sulphur lessees and/or operators.

Estimated Reporting and Recordkeeping Hour Burden: The estimated annual hour burden for this information collection is a total of 74,461 hours. The following chart details the individual components and estimated hour burdens. In calculating the burdens, we assumed that respondents perform certain requirements in the normal course of their activities. We consider these to be usual and customary and took that into account in estimating the burden.

Burden Table
Citation 30 CFR 254 and NTLs | Reporting requirement * | Hour burden | Average number of annual responses | Annual burden hours (rounded)
Subpart A—General
1(a) thru (d); 2(a); 3 thru 5; 7; 20 thru 29; 44(b); 47(a)(3); 51 | Submit spill response plan for OCS facilities and related documents/copies of referenced documents; any additional information necessary for compliance purposes | 192.8 | 18 new plans | 3,470
1(e) | Request BSEE jurisdiction over facility landward of coast line (no recent request received) | 0.4 | 2 requests | 1
2(b) | Submit certification of capability to respond to worst case discharge or substantial threat of such | 15.8 | 18 certification | 284
2(c) | Request deadline extension for submission of revised plan | 2 | 8 extensions | 16
8 | Appeal BSEE orders or decisions per 30 CFR Part 290 | Exempt under 5 CFR 1320.4(a)(2), (c). |  | 0
Subtotal |  |  | 46 responses | 3,771
Subpart B—Oil-Spill Response Plans for Outer Continental Shelf Facilities
Subpart B 52 | Requirements for your oil-spill response plans | Burden included with specific requirements under subparts A and D. |  | 0
30 | Submit and/or resubmit revised spill response plan for OCS facilities at least every 2 years or within 15 days whenever certain changes occur (see (b)(1-4) or (see (e)(1-3)) | 62 | 159 revised plans | 9,858
30 | Notify BSEE of no change to your plan | 1 | 1 plan | 1
Subtotal |  |  | 160 responses | 9,859
Subpart C—Related Requirements for OCS Facilities
40 | Make records of all OSRO-provided services, equipment, personnel available to BSEE | 7 | 40 records | 280
41 | Conduct annual training; retain training records for 2 years | 149 | 138 plans holders/operators | 20,562
42(a) thru (e) | Conduct triennial response plan exercise; retain exercise records for 3 years | 215 | 138 exercises | 29,670
42(f) | Inform BSEE 30 days before the date of any exercise (triennial) | 1.3 | 138 notifications | 179
43 | Inspect response equipment monthly; retain inspection & maintenance records for 2 years | 10.5 | 780 (65 sites × 12 months) | 8,190
44(b) | Request approval to use a different efficiency factor for specific oil recovery devices; submit evidence to demonstrate the request | 1.5 | 1 request | 2
46(a) NTL | Notify NRC of all oil spills from owner/operator facility | Burden would be included in the NRC inventory. |  | 0
46(b) NTL(s) | Notify BSEE of oil spills of one barrel or more from owner/operator facility; submit follow-up report; after catastrophic event may be requested to meet w/BSEE to discuss storm recovery strategies/pollution | 2 | 6 notifications & reports | 12
46(c) | Notify BSEE & responsible party of oil spills from operations at another facility | 1.8 | 24 notifications | 43
47(d) | Request instructions on how to calculate volume of WDC scenario if not listed in § 203.47(a-c) | 0.9 | 1 request | 1
Subtotal |  |  | 1,266 responses | 58,939
Subpart D—Oil Spill Response Requirements for Facilities Located in State Waters Seaward of the Coast Line
50; 52 | Submit response plan for facility in State waters following format for OCS plan | 46.3 | 13 plans | 602
50; 51; 52 | Submit response plan for facility in State waters by modifying existing OCS plan | 14.3 | 50 plans | 715
50; 53 | Submit response plan for facility in State waters developed under State requirements including all information as required in these sections | 40 | 8 plans | 320
54 | Submit description of oil-spill prevention procedures and demonstrate compliance; include any industry safety and pollution prevention standards your facility meets | 3.8 | 67 submissions | 255
Subtotal |  |  | 138 responses | 1,892
Total Hour Burden |  |  | 1,610 responses | 74,461
* In the future, BSEE will be allowing the option of electronic reporting for certain requirements.

Estimated Reporting and Recordkeeping Non-Hour Cost Burden: We have not identified any non-hour cost burdens associated with this collection of information.

Public Disclosure Statement: The PRA (44 U.S.C. 3501, et seq.,) provides that an agency may not conduct or sponsor a collection of information unless it displays a currently valid OMB control number. Until OMB approves a collection of information, you are not obligated to respond.

Comments: Section 3506(c)(2)(A) of the PRA (44 U.S.C. 3501, et seq.,) requires each agency “. . . to provide notice . . . and otherwise consult with members of the public and affected agencies concerning each proposed collection of information . . .” Agencies must specifically solicit comments to: (a) Evaluate whether the collection is necessary or useful; (b) evaluate the accuracy of the burden of the proposed collection of information; (c) enhance the quality, usefulness, and clarity of the information to be collected; and (d) minimize the burden on the respondents, including the use of technology.

To comply with the public consultation process, on May 29, 2015, we published a Federal Register notice (80 FR 30724) announcing that we would submit this ICR to OMB for approval. The notice provided the required 60-day comment period. In addition, § 254.9 provides the OMB Control Number for the information collection requirements imposed by these regulations. The regulation also informs the public that they may comment at any time on the collections of information and provides the address to which they should send comments. We received two comments in response to the Federal Register notice: One from the Marine Mammal Commission in support of the Bureau's request and one comment from a private citizen that was not germane to the PRA.

Public Availability of Comments: Before including your address, phone number, email address, or other personal identifying information in your comment, you should be aware that your entire comment—including your personal identifying information—may be made publicly available at any time. While you can ask us in your comment to withhold your personal identifying information from public review, we cannot guarantee that we will be able to do so.

Dated: August 7, 2015.
Robert W. Middleton,
Deputy Chief, Office of Offshore Regulatory Programs.

[FR Doc. 2015-21102 Filed 8-25-15; 8:45 am]

BILLING CODE 4310-VH-P